INTERNATIONAL TRADE COMMISSION

[USITC SE-18-027]

Government in the Sunshine Act Meeting Notice

Agency Holding the Meeting: United States International Trade Commission.

Time and Date: June 20, 2018 at 11:00 a.m.

Place: Room 101, 500 E Street SW, Washington, DC 20436, Telephone: (202) 205-2000.

Status: Open to the public.

Matters to be Considered:

1. Agendas for future meetings: None.

2. Minutes.

3. Ratification List.

4. Vote on Inv. Nos. 731-TA-1374-1376 (Final) (Citric Acid and Certain Citrate Salts from Belgium, Colombia, and Thailand). The Commission is currently scheduled to complete and file its determinations and views of the Commission by July 6, 2018.

5. Vote on Inv. No. 731-TA-921 (Third Review) (Folding Gift Boxes from China). The Commission is currently scheduled to complete and file its determination and views of the Commission by July 2, 2018.

6. Outstanding action jackets: None.

In accordance with Commission policy, subject matter listed above, not disposed of at the scheduled meeting, may be carried over to the agenda of the following meeting.

By order of the Commission.
Issued: June 11, 2018.
William Bishop,
Supervisory Hearings and Information Officer.

[FR Doc. 2018-12859 Filed 6-12-18; 11:15 am]

BILLING CODE 7020-02-P